DEPARTMENT OF THE TREASURY

Bureau of Customs and Border Protection

Notice of Cancellation of Customs Broker Permit

AGENCY: Bureau of Customs and Border Protection, Department of Homeland Security.

ACTION: General notice.

SUMMARY: Pursuant to section 641 of the Tariff Act of 1930, as amended, (19 U.S.C. 1641) and the Customs Regulations (19 CFR 111.51), the following Customs broker local permits are canceled without prejudice.

Name | Permit No. | Issuing port
Anthony Nogueras | 28-01-MP8 | San Francisco.
Freight Solutions International | LLC28-01-MQ6 | San Francisco.
Rulewave, Inc, LLC | 96-2101-1 | Houston.
Jeanette Larbardini CHB | 98-007 | Houston.
W.R. Zanes & Co., of LA, Inc. | 96-2101-2 | Houston.
XL Brokers International, Inc. | 97-003 | Houston.
USF Worldwide, Inc. | 09549 | San Francisco.
Mildred L. Vavao | 28-02-AQF | San Francisco.

Dated: June 10, 2003.
Jayson P. Ahern,
Assistant Commissioner, Office of Field Operations.

[FR Doc. 03-15244 Filed 6-16-03; 8:45 am]

BILLING CODE 4820-02-P